DEPARTMENT OF THE TREASURY

Fiscal Service

Financial Management Service; Proposed Collection of Information: Request for Payment of Federal Benefit by Check, EFT Waiver Form

AGENCY: Financial Management Service, Fiscal Service, Treasury.

ACTION: Notice and request for comments.

SUMMARY: The Financial Management Service, as part of its continuing effort to reduce paperwork and respondent burden, invites the general public and other Federal agencies to take this opportunity to comment on a continuing information collection. By this notice, “Request for Payment of Federal Benefit by Check, EFT Waiver Form.”

DATES: Written comments should be received on or before February 13, 2012.

ADDRESSES: Direct all written comments to Financial Management Service, 3700 East West Highway, Records and Information Management Branch, Room 135, Hyattsville, MD 20782.

FOR FURTHER INFORMATION CONTACT: Request for additional information or copies of the form(s) and instructions should be directed to Walt Henderson; EFT Strategy Division; 401 14th Street SW., Room 303, Washington, DC 20227, (202) 874-6624.

SUPPLEMENTARY INFORMATION: Pursuant to the Paperwork Reduction Act of 1995, (44 U.S.C. 3506(c)(2)(A)), the Financial Management Service solicits comments on the collection of information described below:

Title: Request for Payment of Federal Benefit by Check, EFT Waiver Form.

OMB Number: 1510-0NEW (OMB to affix number).

Form Number: DRAFT—FMS Form 1201-W.

Abstract: 31 CFR part 208 requires that all Federal non-tax payments be made by electronic funds transfer (EFT). This form is used to collect information from individuals requesting a waiver from the EFT requirement because of a mental impairment and/or who live in a remote geographic location that does not support the use of EFT. These individuals may continue to receive payment by check. However, 31 CFR part 208 requires individuals requesting one of these waiver conditions to submit a written justification that is notarized by a notary public. In order to assist individuals with this submission, Treasury is preparing a waiver form so that all necessary information is collected.

Current Actions: New Information Collection.

Type of Review: Regular.

Affected Public: Individuals or Households.

Estimated Number of Respondents: 400,000.

Estimated Time per Respondent: 1.2 Hours.

Estimated Total Annual Burden Hours: 80,000 Hours.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility; and clarity of the information to be collected; (d) ways to minimize the burden of the collection of information on respondents, including through the use of automated collection techniques or other forms of information technology; and (e) estimates of capital or start-up costs and costs of operation, maintenance and purchase of services to provide information.

Dated: December 6, 2011.
Sheryl R. Morrow,
Assistant Commissioner, Payment Management.

[FR Doc. 2011-31801 Filed 12-12-11; 8:45 am]

BILLING CODE 4810-35-M